DEPARTMENT OF HEALTH AND HUMAN SERVICES

National Institutes of Health

Submission for OMB Review; 30-Day Comment Request Extension; DERT Extramural Grantee Data Collection (NIEHS)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Dr. Kristianna Pettibone, Evaluator, Program Analysis Branch, NIEHS, NIH, 530 Davis Dr., Room 3064, Morrisville, NC 20560, or call non-toll-free number 984-287-3303 or email your request, including your address to: pettibonekg@niehs.nih.gov.

SUPPLEMENTARY INFORMATION: This proposed information collection was previously published in the Federal Register on May 1, 2018, Volume 83, Number 50, page 19073-19074 and allowed 60-days for public comment. No public comments were received. The purpose of this notice is make public aware that this submission is being converted to a Common Form to include the Environmental Protection Agency (EPA) and allow an additional 30 days for public comment.

The National Institute of Environmental Health Sciences (NIEHS), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: DERT Extramural Grantee Data Collection, 0925-XXXX, Expiration Date XX/XX/XXXX-NEW, National Institute of Environmental Health Sciences (NIEHS), National Institutes of Health (NIH).

Need and Use of Information Collection: NIEHS is converting ICR OMB #0925-0657 to a Common Form to add the Environmental Protection Agency (EPA). In order to make informed management decisions about its research programs and to demonstrate the outputs, outcomes and impacts of its research programs NIEHS will collect, analyze and report on data from extramural grantees who are currently receiving funding or who have received funding in the past on topics such as: (1) Key scientific outcomes achieved through the research and the impact on the field of environmental health science; (2) Contribution of research findings to program goals and objectives; (3) ; Satisfaction with the program support received; (4) Challenges and benefits of the funding mechanism used to support the science; and (5) Emerging research areas and gaps in the research.

Information gained from this primary data collection will be used in conjunction with data from grantee progress reports and presentations at grantee meetings to inform internal programs and new funding initiatives. Outcome information to be collected includes measures of agency-funded research resulting in dissemination of findings, investigator career development, grant-funded knowledge and products, commercial products and drugs, laws, regulations and standards, guidelines and recommendations, information on patents and new drug applications and community outreach and public awareness relevant to extramural research funding and emerging areas of research. Satisfaction information to be collected includes measures of satisfaction with the type of funding or program management mechanism used, challenges and benefits with the program support received, and gaps in the research. Frequency of Response: Once per grantee, per research portfolio. Affected Public: Current or past grantees from:

• Eunice Kennedy Shriver National Institute of Child Health and Human Development (NICHD);

• National Institute on Deafness and Other Communication Disorders (NIDCD);

• National Institute of Mental Health (NIMH);

• National Institute of Neurological Disorders and Stroke (NINDS);

• National Institute of Environmental Health Sciences (NIEHS); and

• National Cancer Institute (NCI)

OMB approval is requested for 3 years. There are no costs to respondents other than their time. The total estimated annualized burden hours are 700.

Estimated Annualized Burden Hours
Type of respondent | Number of respondents | Number of responses per respondent | Average time per response (in hours) | Total annual burden hour
NICHD Grantee | 200 | 1 | 30/60 | 100
NIDCD Grantee | 200 | 1 | 30/60 | 100
NIMH Grantee | 200 | 1 | 30/60 | 100
NINDS Grantee | 200 | 1 | 30/60 | 100
NCI Grantee | 400 | 1 | 30/60 | 200
NIEHS Grantee | 200 | 1 | 30/60 | 100
Total | 1400 | 1400 |  | 700

Dated: October 3, 2018.
Jane M. Lambert,
Project Clearance Liaison, NIEHS, NIH.

[FR Doc. 2018-22038 Filed 10-10-18; 8:45 am]

BILLING CODE 4140-01-P